DEPARTMENT OF THE INTERIOR

U.S. Geological Survey

[GX18DJ00COM0050]

Federal Interagency Collaborative on Environmental Modeling and Monitoring

AGENCY: U.S. Geological Survey (USGS), Interior.

ACTION: Notice of public meeting.

SUMMARY: The annual public meeting of the Federal Interagency Collaborative for Environmental Modeling and Monitoring (ICEMM) will convene to discuss developments in environmental modeling applications, tools and frameworks, as well as new operational initiatives among the participating agencies. The meeting this year will focus on the theme of “Monitoring and Model Data Fusion.”

DATES: The meeting will be held on April 24-25, 2018, from 9:00 a.m. to 5:00 p.m.

ADDRESSES: The meeting will be held at U.S. Nuclear Regulatory Commission, Office of Nuclear Regulatory Research, 11555 Rockville Pike, Rockville, MD 20852.

FOR FURTHER INFORMATION CONTACT: Brenda Rashleigh, Assistant Laboratory Director for Water, U.S. Environmental Protection Agency by email at Rashleigh.Brenda@epa.gov, or by telephone at (401) 782-3014; or Pierre Glynn, Chief, Water Cycle Branch, U.S. Geological Survey, by email at pglynn@usgs.gov, or by telephone at (703) 648-5823.

SUPPLEMENTARY INFORMATION:

Background: Federal agencies have been cooperating since 2001 under a Memorandum of Understanding (MOU) on the research and development of multimedia environmental models. (please see: https://my.usgs.gov/confluence/display/cdi/Interagency+Collaborative+for+Environmental+Modeling+and+Monitoring). The MOU, revised and reaffirmed in 2016, establishes a framework for facilitating cooperation and coordination among six agencies (the specific research organization within the agency is in parentheses):

• National Science Foundation;

• U.S. Army Corps of Engineers (Engineer Research and Development Center);

• U.S. Department of Energy (Office of Biological and Environmental Research);

• U.S. Environmental Protection Agency (Office of Research and Development);

• U.S. Geological Survey; and

• U.S. Nuclear Regulatory Commission (Office of Nuclear Regulatory Research).

These agencies are cooperating and coordinating in the research and development of multimedia environmental models, software, and related databases. Model development and simulation supports interagency interests in human and environmental health risk assessment, uncertainty analyses, water supply issues, and contaminant transport.

Purpose of the Public Meeting: The MOU calls for an annual public meeting to provide an opportunity for other Federal and State agencies, the scientific community, and the public to be briefed on ICEMM activities and initiatives and to discuss technological advancements in multimedia environmental modeling.

Proposed Agenda: This year's ICEMM public meeting will be a workshop focusing on modeling and monitoring data fusion. The ICEMM Chair will open the meeting with an overview of the goals of the MOU and current activities of ICEMM, followed by a series of presentations on collaborative modeling and monitoring efforts by ICEMM and invited speakers. During the morning of the second day, the ICEMM agencies will discuss their programs addressing modeling and monitoring data fusion. During the afternoon of the second day, the chairs of the ICEMM Workgroups will discuss their activities and plans for fiscal years 2018 and 2019.

Meeting Access: The meeting will be available for onsite attendance or remotely through Web Meeting Services. To obtain onsite or web access, all interested attendees must pre-register by providing their full contact information and affiliation. (See FOR FURTHER INFORMATION CONTACT).

Pierre Glynn,
U.S. Geological Survey.

[FR Doc. 2018-07764 Filed 4-13-18; 8:45 am]

BILLING CODE 4338-11-P